DEPARTMENT OF TRANSPORTATION

Federal Aviation Administration

14 CFR Part 97

[Docket No. 31150; Amdt. No. 3761]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 11, 2017. The compliance date for each SIAP, associated Takeoff Minimums, and ODP is specified in the amendatory provisions.

The incorporation by reference of certain publications listed in the regulations is approved by the Director of the Federal Register as of September 11, 2017.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION:

This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC on August 11, 2017.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 14 September 2017

Colorado City, AZ, Colorado City Muni, NDB-A, Amdt 1

Colorado City, AZ, Colorado City Muni, RNAV (GPS) RWY 11, Orig

Colorado City, AZ, Colorado City Muni, RNAV (GPS) RWY 29, Orig

Phoenix, AZ, Phoenix-Mesa Gateway, RNAV (RNP) Z RWY 30C, Orig-B

Colusa, CA, Colusa County, GPS RWY 13, Orig-A, CANCELED

Colusa, CA, Colusa County, RNAV (GPS) RWY 31, Amdt 1

Colusa, CA, Colusa County, RNAV (GPS)-B, Orig

Colusa, CA, Colusa County, VOR-A, Amdt 5

Livermore, CA, Livermore Muni, ILS RWY 25R, Amdt 8

Livermore, CA, Livermore Muni, LOC RWY 25R, Orig

Ontario, CA, Ontario Intl, RNAV (GPS) Y RWY 26L, Amdt 2A

Vacaville, CA, Nut Tree, RNAV (GPS) RWY 20, Amdt 1

Monte Vista, CO, Monte Vista Muni, GPS RWY 20, Orig-A, CANCELED

Monte Vista, CO, Monte Vista Muni, RNAV (GPS) RWY 20, Orig

Monte Vista, CO, Monte Vista Muni, RNAV (GPS)-B, Amdt 1

Anderson, IN, Anderson Muni-Darlington Field, NDB RWY 30, Amdt 8

Kentland, IN, Kentland Muni, RNAV (GPS) RWY 27, Orig

Kentland, IN, Kentland Muni, Takeoff Minimums and Obstacle DP, Amdt 1

Grand Rapids, MI, Gerald R Ford Intl, ILS OR LOC RWY 8R, Amdt 6B

Grand Rapids, MI, Gerald R Ford Intl, ILS OR LOC RWY 26L, Amdt 21B

Grand Rapids, MI, Gerald R Ford Intl, ILS OR LOC RWY 35, ILS RWY 35 (SA CAT I), ILS RWY 35 (SA CAT II), Amdt 2

Grand Rapids, MI, Gerald R Ford Intl, RNAV (GPS) RWY 8L, Amdt 1A

Grand Rapids, MI, Gerald R Ford Intl, RNAV (GPS) RWY 8R, Amdt 1A

Grand Rapids, MI, Gerald R Ford Intl, RNAV (GPS) RWY 17, Amdt 1B

Grand Rapids, MI, Gerald R Ford Intl, RNAV (GPS) RWY 26L, Amdt 1A

Grand Rapids, MI, Gerald R Ford Intl, RNAV (GPS) RWY 26R, Amdt 1A

Grand Rapids, MI, Gerald R Ford Intl, RNAV (GPS) RWY 35, Amdt 1A

Staples, MN, Staples Muni, RNAV (GPS) RWY 14, Amdt 1

Staples, MN, Staples Muni, RNAV (GPS) RWY 32, Amdt 1

Hawthorne, NV, Hawthorne Industrial, RNAV (GPS) RWY 28, Orig

Hawthorne, NV, Hawthorne Industrial, Takeoff Minimums and Obstacle DP, Orig

Las Vegas, NV, Mc Carran Intl, RNAV (GPS) RWY 1R, Amdt 2

Lovelock, NV, Derby Field, RNAV (GPS) RWY 2, Amdt 1

Lovelock, NV, Derby Field, RNAV (GPS) RWY 20, Orig

Lovelock, NV, Derby Field, VOR-A, Amdt 1

Caldwell, OH, Noble County, RNAV (GPS) RWY 23, Amdt 1

Baker City, OR, Baker City Muni, RNAV (GPS) RWY 13, Amdt 2

Columbia, SC, Columbia Metropolitan, ILS OR LOC RWY 5, Amdt 1D

Columbia, SC, Columbia Metropolitan, ILS OR LOC RWY 29, Amdt 3H

Columbia, SC, Columbia Metropolitan, RNAV (GPS) RWY 5, Amdt 2A

Columbia, SC, Columbia Metropolitan, RNAV (GPS) RWY 11, Amdt 1B

Columbia, SC, Columbia Metropolitan, RNAV (GPS) RWY 23, Amdt 2A

Columbia, SC, Columbia Metropolitan, RNAV (GPS) RWY 29, Amdt 1B

Watertown, SD, Watertown Rgnl, ILS OR LOC RWY 35, Amdt 11

Watertown, SD, Watertown Rgnl, LOC BC RWY 17, Amdt 11

Watertown, SD, Watertown Rgnl, RNAV (GPS) RWY 35, Amdt 1

Salt Lake City, UT, South Valley Rgnl, RNAV (GPS) RWY 34, Amdt 1

Salt Lake City, UT, South Valley Rgnl, RNAV (GPS) Z RWY 34, Orig-A, CANCELED

Tooele, UT, Bolinder Field-Tooele Valley, ILS OR LOC RWY 17, Amdt 3

Tooele, UT, Bolinder Field-Tooele Valley, RNAV (GPS) RWY 17, Amdt 4

Seattle, WA, Boeing Field/King County Intl, RNAV (RNP) Z RWY 14R, Amdt 1

Seattle, WA, Boeing Field/King County Intl, Takeoff Minimums and Obstacle DP, Amdt 8

Effective 12 October 2017

Coldfoot, AK, Coldfoot, BETTLES TWO, Graphic DP

Coldfoot, AK, Coldfoot, RNAV (GPS) RWY 2, Amdt 2

Coldfoot, AK, Coldfoot, RNAV (GPS)-A, Amdt 1

Mekoryuk, AK, Mekoryuk, RNAV (GPS) RWY 23, Orig-A

Arcata/Eureka, CA, California Redwood Coast-Humboldt County, ILS OR LOC RWY 32, Amdt 3

Arcata/Eureka, CA, California Redwood Coast-Humboldt County, ILS Z RWY 32, Amdt 30B, CANCELED

Arcata/Eureka, CA, California Redwood Coast-Humboldt County, RNAV (GPS) RWY 1, Amdt 2

Arcata/Eureka, CA, California Redwood Coast-Humboldt County, RNAV (GPS) RWY 14, Amdt 1B

Arcata/Eureka, CA, California Redwood Coast-Humboldt County, RNAV (GPS) RWY 32, Amdt 2

Arcata/Eureka, CA, California Redwood Coast-Humboldt County, Takeoff Minimums and Obstacle DP, Amdt 8

Arcata/Eureka, CA, California Redwood Coast-Humboldt County, VOR RWY 14, Amdt 1C

San Andreas, CA, Calaveras Co-Maury Rasmussen Field, RNAV (GPS) RWY 31, Amdt 1

Cedar Rapids, IA, The Eastern Iowa, RNAV (GPS) RWY 27, Amdt 1A

Cedar Rapids, IA, The Eastern Iowa, RNAV (GPS) RWY 31, Amdt 1B

Iowa City, IA, Iowa City Muni, Takeoff Minimums and Obstacle DP, Amdt 3B

Boise, ID, Boise Air Terminal/Gowen Fld, GOWEN THREE, Graphic DP

Nampa, ID, Nampa Muni, ADEXE ONE, Graphic DP

Nampa, ID, Nampa Muni, CADKI ONE, Graphic DP

Nampa, ID, Nampa Muni, NDB-A, Amdt 1A, CANCELED

Nampa, ID, Nampa Muni, RNAV (GPS) RWY 11, Amdt 2B

Nampa, ID, Nampa Muni, Takeoff Minimums and Obstacle DP, Amdt 3

Carrabassett, ME, Sugarloaf Rgnl, RNAV (GPS)-A, Orig

Carrabassett, ME, Sugarloaf Rgnl, Takeoff Minimums and Obstacle DP, Orig

Jackson, MS, Jackson-Medgar Wiley Evers Intl, ILS OR LOC RWY 16L, ILS RWY 16L (SA CAT I), ILS RWY 16L (CAT II), ILS RWY 16L (CAT III), Amdt 8B

Jackson, MS, Jackson-Medgar Wiley Evers Intl, ILS OR LOC RWY 34L, Amdt 6C

Jackson, MS, Jackson-Medgar Wiley Evers Intl, RNAV (GPS) RWY 16L, Amdt 2B

Jackson, MS, Jackson-Medgar Wiley Evers Intl, RNAV (GPS) RWY 16R, Amdt 2B

Jackson, MS, Jackson-Medgar Wiley Evers Intl, RNAV (GPS) RWY 34L, Amdt 3B

Jackson, MS, Jackson-Medgar Wiley Evers Intl, RNAV (GPS) RWY 34R, Amdt 2B

Lebanon, NH, Lebanon Muni, RNAV (GPS) RWY 7, Orig-E

Lebanon, NH, Lebanon Muni, RNAV (GPS) RWY 25, Orig-C

Lebanon, NH, Lebanon Muni, RNAV (GPS) RWY 36, Orig-C

Millville, NJ, Millville Muni, RNAV (GPS) RWY 14, Orig-E

Millville, NJ, Millville Muni, RNAV (GPS) RWY 28, Orig-B

Millville, NJ, Millville Muni, RNAV (GPS) RWY 32, Orig-C

Woodbine, NJ, Woodbine Muni, RNAV (GPS) RWY 19, Orig-B

Woodbine, NJ, Woodbine Muni, VOR-A, Amdt 1B

Jamestown, NY, Chautauqua County/Jamestown, ILS OR LOC RWY 25, Amdt 8

Oklahoma City, OK, Sundance, RNAV (GPS) RWY 18, Amdt 1D

Oklahoma City, OK, Sundance, RNAV (GPS) RWY 36, Amdt 1C

Oklahoma City, OK, Sundance, Takeoff Minimums and Obstacle DP, Amdt 2

Heber, UT, Heber City Muni—Russ McDonald Field, RNAV (GPS)-A, Amdt 3

Heber, UT, Heber City Muni—Russ McDonald Field, Takeoff Minimums and Obstacle DP, Amdt 4

Seattle, WA, Seattle-Tacoma Intl, Takeoff Minimums and Obstacle DP, Amdt 4A

Parkersburg, WV, Mid-Ohio Valley Rgnl, RNAV (GPS) RWY 3, Amdt 2B

Parkersburg, WV, Mid-Ohio Valley Rgnl, RNAV (GPS) RWY 21, Amdt 2C

Dixon, WY, Dixon, CARBON ONE, Graphic DP

Dixon, WY, Dixon, DIXON ONE, Graphic DP

Dixon, WY, Dixon, RNAV (GPS) RWY 24, Orig

Dixon, WY, Dixon, Takeoff Minimums and Obstacle DP, Orig

Greybull, WY, South Big Horn County, NDB RWY 34, Amdt 4

Greybull, WY, South Big Horn County, RNAV (GPS) RWY 8, Amdt 1

Greybull, WY, South Big Horn County, RNAV (GPS) RWY 34, Amdt 2

Greybull, WY, South Big Horn County, Takeoff Minimums and Obstacle DP,Amdt 2

Rescinded: On August 2, 2017 (82 FR 35896), the FAA published an Amendment in Docket No. 31143, Amdt No. 3755 to Part 97 of the Federal Aviation Regulations under section 97.20, 97.23, and 97.37. The following entries for Arcata/Eureka, CA, Immokalee, FL, and Mc Call, ID effective August 17, 2017, and are hereby rescinded in their entirety:

Arcata/Eureka, CA, California Redwood Coast—Humboldt County, Takeoff Minimums and Obstacle DP, Amdt 8

Immokalee, FL, Immokalee Rgnl, VOR RWY 18, Amdt 7

Mc Call, ID, Mc Call Muni, PEPUC TWO, Graphic DP

[FR Doc. 2017-19073 Filed 9-8-17; 8:45 am]

BILLING CODE 4910-13-P